DEPARTMENT OF COMMERCE

National Oceanic and Atmospheric Administration

Proposed Information Collection; Comment Request; External Needs Assessment for NOAA Education Products and Programs

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 28, 2019.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Bruce Moravchik, National Ocean Service (NOS), 1305 East-West Hwy., Bldg. SSMC4, Silver Springs, MD 20910-3278, (240) 533-0874, bruce.moravchik@noaa.gov or Shannon Ricles, NOS, Monitor National Marine Sanctuary, 100 Museum Dr., Newport News, VA 23602, (757) 591-7328, shannon.ricles@noaa.gov.

SUPPLEMENTARY INFORMATION:

I. Abstract

This request is for a new voluntary information collection.

NOAA Office of Education is sponsoring a voluntary multi-question survey to assess the needs of educators pertaining to future NOAA multimedia products and programs. In developing multimedia materials that convey NOAA's science, service and stewardship, the Agency must insure that these resources are of the highest quality and meet the needs of formal and informal educators across the United States. To achieve this goal, it will be necessary to conduct surveys identifying the types of educational programs and products of the highest interest and greatest need by formal and informal educators. By surveying external educators to gather this information, budget expenditures will be used optimally to develop appropriate products and programs most desired by educators to support and enhance Ocean, Earth science, and related STEM education subjects throughout our nation.

II. Method of Collection

The voluntary needs assessment mechanism will be distributed via email with a link to a Google form to external educators subscribed to NOAA education programs as well as their partners email distribution lists. The voluntary needs assessment mechanism will also be distributed in person (paper and electronically) at education conferences, workshops, and other venues hosting educators.

III. Data

OMB Control Number: 0648-xxxx.

Form Number(s): None.

Type of Review: New information collection.

Affected Public: Individuals or households; Business or other for-profit organizations; Not-for-profit institutions.

Estimated Number of Respondents: 1,000 annually.

Estimated Time per Response: Five minutes per survey.

Estimated Total Annual Burden Hours: 83 hours.

Estimated Total Annual Cost to Public: $0.00 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 23, 2018.
Sarah Brabson,
NOAA PRA Clearance Officer.

[FR Doc. 2018-25918 Filed 11-27-18; 8:45 am]

BILLING CODE 3510-12-P